POSTAL SERVICE

39 CFR Part 20

Outbound International Mailings of Lithium Batteries and Other Dangerous Goods

AGENCY: Postal Service™.

ACTION: Final rule.

SUMMARY: The Postal Service is revising the Mailing Standards of the United States Postal Service, International Mail Manual (IMM®) part 136, to incorporate standards that prohibit the outbound international mailing of lithium batteries and devices containing lithium batteries.

DATES: Effective Date: May 16, 2012.

FOR FURTHER INFORMATION CONTACT: Margaret Falwell at 202-268-2576.

SUPPLEMENTARY INFORMATION: The Postal Service is taking this action to bring its international mailing standards into compliance with international standards for the acceptance of dangerous goods in international mail.

International standards have recently been the subject of discussion by the International Civil Aviation Organization (ICAO) and the Universal Postal Union (UPU), and the Postal Service anticipates that on January 1, 2013, customers will be able to mail specific quantities of lithium batteries internationally, when the batteries are properly installed in the personal electronic devices they are intended to operate.

Until such time that a less restrictive policy can be implemented consistent with international standards, and in accordance with UPU Convention, lithium batteries are not permitted in international mail. The UPU Convention and regulations are consistent with the ICAO Technical Instructions for the Safe Transport of Dangerous Goods by Air (Technical Instructions). The Technical Instructions concerning the Transport of Dangerous Goods by Post do not permit “dangerous goods” as defined by the ICAO Technical Instructions in international mail. Currently, the only exceptions to this general prohibition relate to certain medical materials, infectious substances and radioactive materials when they are treated in accordance with additional requirements listed in the Technical Instructions. Lithium-ion cells and lithium metal batteries are listed in the Technical Instructions as Class 9 Miscellaneous Dangerous Goods. The prohibition on mailing lithium batteries and cells internationally also applies to mail sent by commercial air transportation to and from an APO, FPO, or DPO location.

This final rule describes the prohibitions established for mailpieces containing lithium metal or lithium-ion cells or batteries and applies regardless of quantity, size, watt hours, and whether the cells or batteries are packed in equipment, with equipment, or without equipment.

The Postal Service will also make parallel changes to other USPS publications that make reference to the mailing lithium batteries such as Publication 52, Hazardous, Restricted, and Perishable Mail.

The Postal Service hereby adopts the following changes to Mailing Standards of the United States Postal Service, International Mail Manual (IMM), which is incorporated by reference in the Code of Federal Regulations. See 39 CFR 20.1.

List of Subjects in 39 CFR Part 20

Foreign relations, International postal services.

Accordingly, 39 CFR part 20 is amended to read as follows:

PART 20—[AMENDED]

1. The authority citation for 39 CFR part 20 is revised to read as follows:

Authority: 5 U.S.C. 552(a); 13 U.S.C. 301-307; 18 U.S.C. 1692-1737; 39 U.S.C. 101, 401, 403, 404, 407, 414, 416, 3001-3011, 3201-3219, 3403-3406, 3621, 3622, 3626, 3632, 3633, and 5001.

2. Revise the following sections of Mailing Standards of the United States Postal Service, International Mail Manual (IMM), as follows:

Mailing Standards of the United States Postal Service, International Mail Manual (IMM)

1 International Mail Services

* * * * *

130 Mailability

* * * * *

136 Nonmailable Goods

136.1 Dangerous Goods

[Revise the introduction to 136.1 and insert a new item i to read as follows:] Except as provided in IMM 135, “dangerous goods” as defined by the United Nations Recommendations on the Transport of Dangerous Goods, Model Regulations, are prohibited in outbound international mail, regardless of mail class. Some examples of dangerous goods include:

* * * * *

i. Primary lithium metal or lithium alloy (non-rechargeable) cells and batteries, or secondary lithium-ion cells and batteries (rechargeable), regardless of quantity, size, watt hours, and regardless of whether the cells or batteries are packed in the equipment they are intended to operate, with the equipment they are intended to operate, or without equipment (individual batteries). This standard applies to all APO, FPO, or DPO locations.

Additional information can be obtained at http://www.unece.org/trans/danger/danger.html.

* * * * *

We will publish an amendment to 39 CFR part 20 to reflect these changes.

Stanley F. Mires,
Attorney, Legal Policy & Legislative Advice.

[FR Doc. 2012-11483 Filed 5-14-12; 8:45 am]

BILLING CODE 7710-12-P